DEPARTMENT OF ENERGY

Federal Energy Regulatory Commission

[Docket No. CP05-18-000]

Equitrans, L.P.; Notice of Proceeding

November 23, 2004.

Take notice that on November 18, 2004, in an order issued in Docket Nos. RP04-97-001, et al., the Commission established a separate proceeding to conduct an inquiry in response to assertions by Equitrans, L.P. (Equitrans), 100 Allegany Center, Pittsburgh, PA 15275, that a significant portion of its storage facilities' cushion gas has been lost due to migration of that gas. The proceeding in Docket No. CP05-18-000, initiated by the Commission pursuant to its authority under section 5, 7, 8 and 16 of the Natural Gas Act (NGA), will explore material issues regarding Equitrans' loss of the cushion gas, as described in more detail herein.

In the rate proceeding in Docket Nos. RP04-97-001, et al., Equitrans explained its intention to buy and inject into storage approximately 9,600,000 Dth of cushion gas to replace lost cushion gas. Equitrans proposed in the rate proceeding to reflect the projected purchase cost of this cushion gas of approximately $49.1 million in its rates. In the November 18, 2004, order in Docket Nos. RP04-97-001, et al., the Commission observed that the loss of such a significant volume of cushion gas raises operational and other issues, in particular whether Equitrans' storage operations and facilities are meeting Equitrans' certificated service obligations under section 7 of the NGA. The Commission found that it should review Equitrans' operation of its storage facilities prior to Equitrans' being permitted to purchase and inject more cushion gas into the storage system.

Accordingly, in Docket No. CP05-18-000, the Commission will convene a technical conference to initiate an inquiry regarding Equitrans' assertion that it has lost cushion gas due to migration and the effects any such migration has on its storage operations. The Commission will issue a further notice establishing the date for the technical conference, which will be conducted after the due date for motions to intervene in Docket No. CP05-18-000. At the technical conference, Equitrans shall present data and information to support its assertion that cushion gas has migrated from its storage facilities and to demonstrate the effects any such migration has on its storage operations. Equitrans also shall present its plan for implementing measures to ensure that its storage facilities can continue to operate without further gas loss within the defined geological parameters and without further reservoir or buffer expansion. Following the technical conference, the Commission will issue further procedural notices as needed.

Any person desiring to be heard in this proceeding should file a motion to intervene with the Federal Energy Regulatory Commission, 888 First Street, NE., Washington, DC 20426, in accordance with sections 385.214 of the Commission's Rules and Regulations. All such motions must be filed on or before December 2, 2004. Attendance at the technical conference will be limited to persons that file timely motions to intervene.

Any comments filed in this proceeding will be considered by the Commission in determining the appropriate action to be taken, but will not serve to make the commenters parties to the proceeding. Any person wishing to become a party must file a motion to intervene. Any motions to intervene, data requests, responses to data requests, comments or any other document filed in this proceeding will be available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a) (1) (iii) and the instructions on the Commission's Web site under the “e-Filing” link.

Intervention Date: December 2, 2004.

Magalie R. Salas,
Secretary.

[FR Doc. E4-3399 Filed 11-30-04; 8:45 am]

BILLING CODE 6717-01-P